DEPARTMENT OF LABOR

Mine Safety and Health Administration

Petition for Modification of Application of Existing Mandatory Safety Standards

AGENCY: Mine Safety and Health Administration, Labor.

ACTION: Notice.

SUMMARY: This notice is a summary of four petitions for modification submitted to the Mine Safety and Health Administration (MSHA) by the parties listed below.

DATES: All comments on the petitions must be received by MSHA's Office of Standards, Regulations, and Variances on or before March 24, 2022.

ADDRESSES: You may submit your comments including the docket number of the petition by any of the following methods:

1. Email: zzMSHA-comments@dol.gov. Include the docket number of the petition in the subject line of the message.

2. Facsimile: 202-693-9441.

3. Regular Mail or Hand Delivery: Regular Mail or Hand Delivery: MSHA, Office of Standards, Regulations, and Variances, 201 12th Street South, Suite 4E401, Arlington, Virginia 22202-5452, Attention: S. Aromie Noe, Acting Director, Office of Standards, Regulations, and Variances. MSHA will consider only comments postmarked by the U.S. Postal Service or proof of delivery from another delivery service such as UPS or Federal Express on or before the deadline for comments. Persons delivering documents are required to check in at the receptionist's desk in Suite 4E401. Individuals may inspect copies of the petition and comments during normal business hours at the address listed above. Before visiting MSHA in person, call 202-693-9455 to make an appointment in keeping with the Department of Labor's COVID-19 policy. Special health precautions may be required.

FOR FURTHER INFORMATION CONTACT: S. Aromie Noe, Office of Standards, Regulations, and Variances at 202-693-9440 (voice), petitionsformodification@dol.gov (email), or 202-693-9441 (facsimile). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

3. In addition, sections 44.10 and 44.11 of 30 CFR establish the requirements for filing petitions for modification.

II. Petition for Modification

Docket Number: M-2021-045-C.

Petitioner: Signal Peak Energy, LLC, 100 Portal Drive, Roundup, Montana 59072.

Mine: Bull Mountains Mine No. 1, MSHA ID No. 24-01950, located in Musselshell County, Montana.

Regulation Affected: 30 CFR 75.1002(a) (Installation of electric equipment and conductors; permissibility).

Modification Request: The petitioner requests a modification of 30 CFR 75.1002(a) to permit the use of 3M Versaflo™ TR-800 Powered Air Purifying Respirators (PAPR) within 150 feet of the longwall face.

The petitioner states that:

1. The petitioner uses 3M Airstream™ Headgear-Mounted Powered Air Purifying Respirators to protect its longwall miners from exposure to respirable dust.

2. The 3M Airstream™ system and replacement components production have been discontinued since June 1, 2020. Currently, there are no replacement PAPRs meeting the MSHA standards for permissibility relative to electronic equipment used in potentially explosive atmospheres of underground coal mines.

3. Explosive levels of methane or other explosive gases have never been encountered at Bull Mountains Mine No. 1.

4. The 3M Versaflo™ TR-800 PAPR is not approved by MSHA as permissible equipment, and 3M is not pursuing approval.

5. 3M offers the 3M Versaflo™ TR-800 Intrinsically Safe PAPR motor/blower and battery which qualify as intrinsically safe in the U.S., Canada, and other countries accepting the International Electrotechnical Commission System for Certification to Standards Relating to Equipment for Use in Explosive Atmospheres (IECEx). The 3M Versaflo™ TR-800 PAPR blower is UL-certified with an intrinsically safe (IS) rating of Division 1: IS Class I, II, III; Division 1 (includes Division 2) Groups C, D, E, F, G; T4 under the most current standard (UL 60079, 6th Edition, 2013); ATEX Ce1tified with an IS rating of ia. The TR- 800 is rated and marked with Ex ia I Ma, Ex ia IIB T4 Ga, Ex ia me 135oC Da, -20oC <Ta6. The petitioner states that the International Society of Automation/American National Standards Institute (ISA/ANSI) standards are an acceptable alternative to ACRI2001 and provide an equivalent level of protection.

The petitioner proposes the following alternative method:

1. When not in operation, batteries for the 3M Versaflo™ TR-800 PAPR shall be charged on the surface or underground in intake air and not within 150 feet of a worked-out area.

2. The batteries shall be inspected and changed at the surface or underground in intake air.

3. The 3M TR-644N 4 station or the 3M TR-641N battery chargers shall be used.

4. The 3M Versaflo™ TR-800 PAPR shall exclusively use the TR-830 battery pack.

5. Miners shall be trained how to safely use, care for, and inspect the 3M Versaflo™ TR-800 PAPRs.

6. Each 3M Versaflo™ TR-800 PAPR shall be assessed for physical damage and integrity of the unit's case before each use.

7. The 3M Versaflo™ TR-800 PAPR shall not be used if methane levels are found to be at or above 1.0 percent. If the methane levels are higher than 1.0 percent, the equipment shall immediately be de-energized and withdrawn from the affected areas.

8. The 3M Versaflo™ TR-800 PAPR shall not be used in continuous miner sections alongside proximity detection systems.

9. All qualified persons and miners affected shall receive specific training on the terms and conditions of this petition before using the equipment within 150 feet of the longwall face. A record of any training in this petition shall be kept and provided upon request by an authorized representative of MSHA.

The petitioner asserts that the alternative method proposed will at all times guarantee no less than the same measure of protection afforded the miners under the mandatory standard.

Docket Number: M-2021-046-C.

Petitioner: Prairie State Generating Company, LLC, 4274 County Highway 12, Marissa, Illinois, 62257.

Mine: Lively Grove Mine, MSHA ID No. 11-03193, located in St. Clair County, Illinois.

Regulation Affected: 30 CFR 75.1909(b)(6) (Nonpermissible diesel-powered equipment; design and performance requirements).

Modification Request: The petitioner proposes an alternate method in lieu of service brakes on each wheel. Specifically, the petitioner requests to use the dual brake systems on the four rear wheels of the diesel-powered six wheeled Getman Roadbuilder, Model RDG-1540S and Getman Roadbuilder Model RDG-1004 underground road graders operated at the mine.

The petitioner states that:

1. A Proposed Decision and Order was issued on October 19, 2010, granting the petitioner's modification request concerning 30 CFR 75.1909(b)(6) and allowing the petitioner to use the dual brake system on the four rear wheels of the Getman Roadbuilder, Model RDG-1540S.

2. The petitioner recently purchased an additional underground road grader, Getman Roadbuilder Model RDG-1004, serial number 6760.

3. The graders both have dual brake systems on the four rear wheels and are designed to prevent loss of braking due to a single component failure. Each of the brake systems features an accumulator pressure gauge and a low-pressure warning light. The graders are also equipped with: a spring-applied, hydraulic-release wet disc park and supplemental brake; transmission neutralizer; and test button for park brake testing. The independent braking systems are designed to operate even when oil, air, electrical, or transmission pressure fails.

The petitioner proposes:

1. The petitioner will limit the speed of the diesel graders to 10 miles per hour (MPH) in either forward or reverse. This will be accomplished by the following:

a. The shifter for each grader is permanently physically blocked to prevent the grader from being put into 4th gear.

b. The transmission on each grader is modified internally so that the shifter cannot put the grader into 4th gear.

c. Operation of each road grader in gears one through three will limit the speed to 10 miles per hour (MPH) or less.

2. Road grader operators will be trained concerning the provisions of this petition, and this training will be documented on an MSHA 5000-23 form. Grader operator training will include the following:

a. The braking limitations of each road grader.

b. The speed of each road grader is limited to 10 MPH or less.

c. Fourth gear is not available for either road grader.

d. As the angle of a road or slope increases, speed should be reduced by operating at a lower gear.

e. As an alternate means to control the speed of either road grader, the moldboard can be lowered to the mine floor.

The petitioner asserts that the alternative method proposed will at all times guarantee no less than

the same measure of protection afforded the miners under the mandatory standard.

Docket Number: M-2022-001-C.

Petitioner: Signal Peak Energy, LLC, 100 Portal Drive, Roundup, Montana 59072.

Mine: Bull Mountains Mine No. 1, MSHA ID No. 24-01950, located in Musselshell County, Montana.

Regulation Affected: 30 CFR 75.500(d) (Permissible electric equipment.)

Modification Request: The petitioner requests a modification of 30 CFR 75.500(d) to permit the 3M Versaflo™ TR-800 Powered Air Purifying Respirators (PAPR) to be taken into or used inby the last crosscut.

The petitioner states that:

1. The petitioner uses 3M Airstream™ Headgear-Mounted Powered Air Purifying Respirators to protect its longwall miners from exposure to respirable dust.

2. The 3M Airstream™ system and replacement components production have been discontinued since June 1, 2020. Currently, there are no replacement PAPRs meeting the MSHA standards for permissibility relative to electronic equipment used in potentially explosive atmospheres of underground coal mines.

3. Explosive levels of methane or other explosive gases have never been encountered at Bull Mountains Mine No. 1.

4. The 3M Versaflo™ TR-800 PAPR is not approved by MSHA as permissible equipment, and 3M is not pursuing approval.

5. 3M offers the 3M Versaflo™ TR-800 Intrinsically Safe PAPR motor/blower and battery which qualify as intrinsically safe in the U.S., Canada, and other countries accepting the International Electrotechnical Commission System for Certification to Standards Relating to Equipment for Use in Explosive Atmospheres (IECEx). The 3M Versaflo™ TR-800 PAPR blower is UL-certified with an intrinsically safe (IS) rating of Division 1: IS Class I, II, III; Division 1 (includes Division 2) Groups C, D, E, F, G; T4 under the most current standard (UL 60079, 6th Edition, 2013); ATEX Ce1tified with an IS rating of ia. The TR-800 is rated and marked with Ex ia I Ma, Ex ia IIB T4 Ga, Ex ia me 135oC Da, −20oC <Ta<+55oC, under the current standard (International Electrotechnical Commission 60079).

6. The petitioner states that the International Society of Automation/American National Standards Institute (ISA/ANSI) standards are an acceptable alternative to ACRI2001 and provide an equivalent level of protection.

The petitioner proposes the following alternative method:

1. When not in operation, batteries for the 3M Versaflo™ TR-800 PAPR shall be charged on the surface or underground in intake air and not within 150 feet of a worked-out area.

2. The batteries shall be inspected and changed at the surface or underground in intake air.

3. The 3M TR-644N 4 station or the 3M TR-641N battery chargers shall be used.

4. The 3M Versaflo™ TR-800 PAPR shall exclusively use the TR-830 battery pack.

5. Miners shall be trained how to safely use, care for, and inspect the 3M Versaflo™ TR-800 PAPRs.

6. The 3M Versaflo™ TR-800 PAPR shall be assessed for physical damage and integrity of the unit's case before each use.

7. The 3M Versaflo™ TR-800 PAPR shall not be used if methane levels are found to be at or above 1.0 percent. If the methane levels are higher than 1.0 percent, the equipment shall immediately be de-energized and withdrawn from the affected areas.

8. The 3M Versaflo™ TR-800 PAPR shall not be used in continuous miner sections alongside proximity detection systems.

9. All qualified persons and miners affected shall receive specific training on the terms and conditions of this petition before taking or using the equipment inby the last crosscut. A record of any training in the petition shall be kept and provided upon request by an Authorized Representative.

The petitioner asserts that the alternative method proposed will at all times guarantee no less than the same measure of protection afforded the miners under the mandatory standard.

Docket Number: M-2022-002-C.

Petitioner: Signal Peak Energy, LLC, 100 Portal Drive, Roundup, Montana 59072.

Mine: Bull Mountains Mine No. 1, MSHA ID No. 24-01950, located in Musselshell County, Montana.

Regulation Affected: 30 CFR 75.50701(a) (Electric equipment other than power-connection points; outby the last open crosscut; return air; permissibility requirements.)

Modification Request: The petitioner requests a modification of 30 CFR 75.50701(a) to permit the 3M Versaflo™ TR-800 Powered Air Purifying Respirators (PAPR) to be used in return air outby the last open crosscut.

The petitioner states that:

1. The petitioner uses 3M Airstream™ Headgear-Mounted Powered Air Purifying Respirators to protect its longwall miners from exposure to respirable dust.

2. The 3M Airstream™ system and replacement components production have been discontinued since June 1, 2020. Currently, there are no replacement PAPRs meeting the MSHA standards for permissibility relative to electronic equipment used in potentially explosive atmospheres of underground coal mines.

3. Explosive levels of methane or other explosive gases have never been encountered at Bull Mountains Mine No. 1.

4. The 3M Versaflo™ TR-800 PAPR is not approved by MSHA as permissible equipment, and 3M is not pursuing approval.

5. 3M offers the 3M Versaflo™ TR-800 Intrinsically Safe PAPR motor/blower and battery which qualify as intrinsically safe in the U.S., Canada, and other countries accepting the International Electrotechnical Commission System for Certification to Standards Relating to Equipment for Use in Explosive Atmospheres (IECEx). The 3M Versaflo™ TR-800 PAPR blower is UL-certified with an intrinsically safe (IS) rating of Division 1: IS Class I, II, III; Division 1 (includes Division 2) Groups C, D, E, F, G; T4 under the most current standard (UL 60079, 6th Edition, 2013); ATEX Ce1tified with an IS rating of ia. The TR- 800 is rated and marked with Ex ia I Ma, Ex ia IIB T4 Ga, Ex ia me 135oC Da, −20oC <Ta<+55oC, under the current standard (International Electrotechnical Commission 60079).

6. The petitioner states that the International Society of Automation/American National Standards Institute (ISA/ANSI) standards are an acceptable alternative to ACRI2001 and provide an equivalent level of protection.

The petitioner proposes the following alternative method:

1. When not in operation, batteries for the 3M Versaflo™ TR-800 PAPR shall be charged on the surface or underground in intake air and not within 150 feet of a worked-out area.

2. The batteries shall be inspected and changed at the surface or underground in intake air.

3. The 3M TR-644N 4 station or the 3M TR-641N battery chargers shall be used.

4. The 3M Versaflo™ TR-800 PAPR shall exclusively use the TR-830 battery pack.

5. Miners shall be trained how to safely use, care for, and inspect the 3M Versaflo™ TR-800 PAPRs.

6. The 3M Versaflo™ TR-800 PAPR shall be assessed for physical damage and integrity of the unit's case before each use.

7. The 3M Versaflo™ TR-800 PAPR shall not be used if methane levels are found to be at or above 1.0 percent. If the methane levels are higher than 1.0 percent, the equipment shall immediately be de-energized and withdrawn from the affected areas.

8. The 3M Versaflo™ TR-800 PAPR shall not be used in continuous miner sections alongside proximity detection systems.

9. All qualified persons and miners affected shall receive specific training on the terms and conditions of the petition before using the equipment in to be used in return air outby the last open crosscut. A record of any training in the petition shall be kept and provided upon request by an Authorized Representative.

The petitioner asserts that the alternative method proposed will at all times guarantee no less than the same measure of protection afforded the miners under the mandatory standard.

Song-ae Aromie Noe,
Acting Director, Office of Standards, Regulations, and Variances.

[FR Doc. 2022-03686 Filed 2-18-22; 8:45 am]

BILLING CODE 4520-43-P